DEPARTMENT OF COMMERCE

National Oceanic and Atmospheric Administration

RIN 0648-XR019

Endangered Species; File Nos. 22822, 22988, and 22991

AGENCY: National Marine Fisheries Service (NMFS), National Oceanic and Atmospheric Administration (NOAA), Commerce.

ACTION: Notice; receipt of applications for permits.

SUMMARY: Notice is hereby given that three applicants have applied in due form for a permit or permit modification to take green (Chelonia mydas), hawksbill (Eretmochelys imbricata), Kemp's ridley (Lepidochelys kempii), loggerhead (Caretta caretta), leatherback (Dermochelys coriacea), and olive ridley (L. olivacea) sea turtles for purposes of scientific research.

DATES: Written, telefaxed, or email comments must be received on or before August 12, 2019.

ADDRESSES: The application and related documents are available for review by selecting “Records Open for Public Comment” from the “Features” box on the Applications and Permits for Protected Species (APPS) home page, https://apps.nmfs.noaa.gov, and then selecting the applicable File No. from the list of available applications.

These documents are also available upon written request or by appointment in the Permits and Conservation Division, Office of Protected Resources, NMFS, 1315 East-West Highway, Room 13705, Silver Spring, MD 20910; phone (301) 427-8401; fax (301) 713-0376.

Written comments on the applications should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on the application would be appropriate.

FOR FURTHER INFORMATION CONTACT: Erin Markin or Amy Hapeman, (301) 427-8401.

SUPPLEMENTARY INFORMATION: The subject permits are requested under the authority of the Endangered Species Act of 1973, as amended (ESA; 16 U.S.C. 1531 et seq.) and the regulations governing the taking, importing, and exporting of endangered and threatened species (50 CFR parts 222-226).

22822: Pamela Plotkin, Ph.D., Texas A&M University, 797 Lamar Street, 4115 TAMU, College Station, TX 77843, proposes to determine the spatiotemporal distribution of sea turtles in Matagorda Bay, Texas. Green, hawksbill, Kemp's ridley, and loggerhead sea turtles would be captured using tangle nets, biologically sampled (scute, skin), tagged (flipper), satellite and/or acoustic tagged (epoxy attachment), measured, weighed, and photographed/videoed. Up to 10 of each species may be captured annually. The permit would be valid for up to 3 years from the date of issuance.

File No. 22988: Lawrence Wood, Ph.D., LDWood BioConsulting, Inc., 425 Kennedy Street, Jupiter, FL 33468, proposes to determine and describe the abundance, movements, and behavior of hawksbill turtles found on the barrier reefs of southeast Florida. Up to 50 hawksbill sea turtles may be captured annually by hand or dip net, biologically sampled (skin, epibiota), tagged (passive integrated transponder [PIT], flipper), measured, and photographed/videoed. A subset of turtles may receive a satellite tag and/or video tag assemblies (epoxy attachment) and be biologically sampled (blood, scute) prior to release. Additionally, up to 50 sea turtles may be harassed annually during surveys. The permit would be valid for 10 years from the date of issuance.

File No. 22991: NMFS Pacific Islands Regional Office, 1845 Wasp Boulevard, Building 176, Honolulu, HI 96818 (Michael Tosatto, Responsible Party), proposes to provide information on sea turtles biology, life history, post-hooking mortality, diving behavior, and migratory routes to aid in the development of methods to reduce sea turtles interactions with fishing gear. The applicant proposes to conduct research on green, hawksbill, loggerhead, leatherback, and olive ridley sea turtles bycaught in three longline Pacific fisheries (Hawaii Deep-Set Longline Fishery, Hawaii Shallow-Set Longline Fishery, and American Samoa Longline Fishery). Turtles may be flipper tagged, skin biopsied, satellite tagged (pygal or epoxy attachment), measured, and photographed/videoed prior to release. The applicant may conduct research on the number of turtles authorized to be incidentally taken in each fishery. The permit would be valid for 5 years from the date of issuance.

Dated: July 8, 2019.
Julia Marie Harrison,
Chief, Permits and Conservation Division, Office of Protected Resources, National Marine Fisheries Service.

[FR Doc. 2019-14794 Filed 7-11-19; 8:45 am]

BILLING CODE 3510-22-P